SECURITIES AND EXCHANGE COMMISSION

[Release No. 34-52733; File No. 81-934]

Notice of an Application of Global Industries, Ltd. Under Section 12(h) of the Securities Exchange Act of 1934

November 4, 2005.

The Securities and Exchange Commission gives notice that Global Industries, Ltd. has filed an application under Section 12(h) of the Securities Exchange Act of 1934, as amended. Global Industries asks the Commission to extend the due date for Global Industries's Form 10-Q for the quarter ended September 30, 2005 to November 29, 2005. Global Industries states that its principal executive offices are located in Carlyss, Louisiana, which is within one of the Presidentially Declared Disaster Areas for both Hurricane Katrina and Hurricane Rita. In its application, Global Industries asserts that an extension of the due date for Global Industries's Form 10-Q for the quarter ended September 30, 2005 is necessary due to, among other things, the mandatory evacuations and the extraordinary disruptions to Global Industries's facilities, personnel, and information technology resources caused by Hurricane Rita.

For a detailed statement of the information presented, all persons are referred to Global Industries's application, which is on file in the Commission's Public Reference Room, Station Place, 100 F Street, NE., Washington, DC 20549.

The Commission also gives notice that any interested person not later than November 25, 2005 may submit to the Commission in writing its views on any substantial facts bearing on the application or the desirability of a hearing thereon.

Any such communication or request may be submitted by any of the following methods:

Electronic Comments

• Use the Commission's Internet comment form (http://www.sec.gov/rules/other.shtml); or

• Send an e-mail to rule-comments@sec.gov. Please include File Number 81-934 on the subject line.

Paper Comments

• Send paper comments in triplicate to Jonathan G. Katz, Secretary, Securities and Exchange Commission, Station Place, 100 F Street, NE., Washington, DC 20549-9303.

All submissions should refer to File Number 81-934. This file number should be included on the subject line if e-mail is used. To help the Commission process and review your comments more efficiently, please use only one method. The Commission will post all comments on the Commission's Internet Web site (http://www.sec.gov/rules/other.shtml). Copies of the submission, all subsequent amendments, all written statements with respect to the application filed with the Commission, and all written communications relating to the application between the Commission and any person, other than those that may be withheld from the public in accordance with the provisions of 5 U.S.C. 552, will be available for inspection and copying in the Commission's Public Reference Room. All comments received will be posted without change; the Commission does not edit personal identifying information from submissions. You should submit only information that you wish to make available publicly. All submissions should be submitted on or before November 25, 2005.

Persons who request a hearing or advice as to whether a hearing is ordered will receive any notices and orders issued in this matter, including the date of the hearing (if ordered) and any postponements thereof. At any time after said date, the Commission may issue an order granting the application upon request or upon the Commission's own motion.

For the Commission, by the Division of Corporation Finance, pursuant to delegated authority.
Jonathan G. Katz,
Secretary.

[FR Doc. 05-22382 Filed 11-4-05; 3:09 pm]

BILLING CODE 8010-01-P